CONSUMER FINANCIAL PROTECTION BUREAU

12 CFR Part 1022

[Docket No. CFPB-2024-0023]

RIN 3170-AA54

Prohibition on Creditors and Consumer Reporting Agencies Concerning Medical Information (Regulation V)

Correction

In rule document 2024-30824, appearing on pages 3276-3374 in the issue of Tuesday, January 14, 2025, make the following correction:

On page 3276, in the first column, in the DATES section, “March 17, 2024” should read “March 17, 2025”.

[FR Doc. C1-2024-30824 Filed 1-24-25; 8:45 am]

BILLING CODE 0099-10-P